DEPARTMENT OF THE INTERIOR

Bureau of Land Management

[BLM_AZ_FRN_MO4500172014]

Notice of Intent To Prepare an Environmental Impact Statement and To Amend the Resource Management Plan for the Lower Sonoran Field Office, and Notice of Segregation for the Proposed Vulcan Solar Project, Arizona

AGENCY: Bureau of Land Management, Interior.

ACTION: Notice of intent and segregation.

SUMMARY: In compliance with the National Environmental Policy Act of 1969, as amended (NEPA), and the Federal Land Policy and Management Act of 1976, as amended (FLPMA), the Bureau of Land Management (BLM) Arizona State Director intends to prepare an Environmental Impact Statement (EIS) and associated Resource Management Plan (RMP) amendment to consider the effects of the Vulcan Solar Project (Project) and by this notice is announcing the beginning of the scoping period to solicit public comments and identify issues, and is providing the planning criteria for public review. The BLM also announces the segregation of 8,911 acres of public lands from appropriation under the public land laws, including the Mining Law, but not the Mineral Leasing or Materials Acts, for a period of two years from the date of publication of this notice, subject to valid existing rights. This segregation will facilitate the orderly administration of the public lands while the BLM considers potential solar development on the described parcels.

DATES: The BLM requests the public submit comments concerning the scope of the analysis, potential alternatives, and identification of relevant information and studies by August 7, 2023. To afford the BLM the opportunity to consider issues raised by commenters in the Draft EIS and RMP amendment, please ensure your comments are received prior to the close of the 30-day scoping period or 15 days after the last public meeting, whichever is later. A virtual public scoping meeting will be held 2-3 weeks after publication of this notice; the meeting date will be announced on the Project ePlanning website at least 15 days prior to the meeting. The segregation for the public lands identified in this notice is effective on July 7, 2023.

ADDRESSES: You may submit comments on issues and planning criteria related to the Project by any of the following methods:

• Website: https://eplanning.blm.gov/eplanning-ui/project/2024466/510

• Email: BLM_AZ_PDO_Solar@blm.gov

• Mail: BLM, Lower Sonoran Field Office, Attention: Vulcan Solar Project, 2020 East Bell Road, Phoenix, AZ 85022

Documents pertinent to this proposal may be examined online at the Project's ePlanning website: https://eplanning.blm.gov/eplanning-ui/project/2024466/510 and at the Lower Sonoran Field Office.

FOR FURTHER INFORMATION CONTACT: Matt Drahnak, Project Manager, at mdrahnak@blm.gov, the mailing address above, or by phone at (602) 919-1702. Contact Mr. Drahnak to have your name added to our mailing list. Individuals in the United States who are deaf, deafblind, hard of hearing, or have a speech disability may dial 711 (TTY, TDD, or TeleBraille) to access telecommunications relay services for contacting Mr. Drahnak. Individuals outside the United States should use the relay services offered within their country to make international calls to the point-of-contact in the United States.

SUPPLEMENTARY INFORMATION: This document provides notice that the BLM Arizona State Director intends to prepare an EIS and RMP amendment, announces the beginning of the scoping process, and seeks public input on issues and planning criteria. The BLM is evaluating permitting solar energy facilities—including photovoltaic panels, batteries, and other solar array infrastructure—within a designated utility corridor, which would require amending the existing Lower Sonoran RMP to remove the utility corridor designation from 921 acres of designated utility corridors in order to allow for the placement of photovoltaic panels and other project infrastructure.

The planning area is located in Maricopa County, Arizona, and encompasses approximately 7,374 acres of public land.

The scope of this land use planning process does not include addressing the evaluation or designation of areas of critical environmental concern (ACEC), and the BLM is not considering ACEC nominations as part of this process.

Purpose and Need

The purpose and need for action is to respond to Vulcan Solar's application for a right-of-way (ROW) to construct, operate, maintain, and decommission a solar photovoltaic project and associated facilities on public land administered by the BLM, consistent with Title V of FLPMA, regulations at 43 CFR part 2800, and other applicable laws and regulations. In making its decision to issue a ROW grant, the BLM must first consider conformance with existing RMPs (43 CFR 1610.5-3). Because a portion of the proposed project would be in a designated utility corridor that precludes this type of development, this EIS will include analysis of an amendment to the Lower Sonoran RMP to remove the utility corridor designation.

Preliminary Alternatives

The BLM has identified three preliminary alternatives, including the No Action Alternative. The Proposed Action would authorize development of a solar photovoltaic facility and battery storage system on up to 7,374 acres of BLM-administered land in Maricopa County, Arizona. The Project proposal includes photovoltaic modules, battery energy storage facilities, substations, electrical collector and connection lines, switch yards, monitoring and maintenance facilities, access roads, and temporary use areas. The Project has a proposed generating capacity of up to 1,050 megawatt alternating current net capacity and would connect to the regional electrical grid via a proposed nine-mile transmission line to the existing Hassayampa Switchyard. As part of the Proposed Action, the BLM will consider an amendment to the Lower Sonoran RMP to remove approximately 921 acres from designated utility corridors, which would allow for placement of photovoltaic arrays and other Project infrastructure. A second action alternative called the Corridor Exclusion Alternative would authorize the Project as proposed, minus the 921 acres within the designated utility corridors, so no RMP amendment would be required. The No Action Alternative would deny the ROW application; no RMP amendment would be required. The BLM welcomes comments on all preliminary alternatives as well as suggestions for additional alternatives.

Planning Criteria

The planning criteria guide the planning effort and lay the groundwork for effects analysis by identifying the preliminary issues and their analytical frameworks. Preliminary issues for the planning area have been identified by BLM personnel and from early engagement conducted for this planning effort with Federal, State, and local agencies; Tribes; and interested stakeholders. The BLM has identified one preliminary issue for this planning effort's analysis of the RMP amendment. The planning criteria are available for public review and comment at the ePlanning website (see ADDRESSES).

Summary of Expected Impacts

Anticipated impacts on BLM-managed lands from the proposed Project and RMP amendment include up to 7,374 acres of ground disturbance for the solar facility, battery storage systems, transmission lines, operation and maintenance buildings, construction laydown areas, and access roads. Potential impacts may include reduction in authorized grazing; vegetation removal; recreation, access, and land use changes; wildlife and migratory bird impacts including habitat loss and potential direct mortalities during construction and operation; visual impacts including glint and glare and an increase in nighttime brightness; potential impacts to cultural resources and Native American concerns; and socioeconomic impacts. Known resources to be addressed in the analysis include, but are not limited to, air quality, visual resources, environmental justice, social and economic values, mining and minerals, land uses, Native American religious concerns, recreation, grazing/range, cultural resources, wildlife, migratory birds, threatened, endangered and sensitive species, soils, water resources, invasive species and paleontology. Impact analysis will also consider the cumulative impacts to natural and cultural resources from reasonably foreseeable projects in the area. Modifications to the designated utility corridor would likely reduce future siting flexibility for linear utilities, including sub-surface pipelines and overhead powerlines in the vicinity of the corridor that would be undesignated.

Anticipated Permits and Authorizations

In addition to the requested ROW grant, other Federal, State, and local authorizations would be required for the Project. These may include authorizations determined through consultation under the Endangered Species Act (ESA) (16 U.S.C. 1536 et seq.), Clean Water Act (CWA) (33 U.S.C. 1251 et seq.), and other laws and regulations determined to be applicable to the Project.

Schedule for the Decision-Making Process

The BLM will provide additional opportunities for public participation consistent with the NEPA and land use planning processes, including a 90-day comment period on the Draft RMP Amendment/EIS and a concurrent 30-day public protest period and 60-day Governor's consistency review on the Proposed RMP Amendment. The Draft RMP Amendment/EIS is anticipated to be available for public review in Spring 2024, and the Proposed RMP Amendment is anticipated to be available for public protest in Fall 2024, with a Record of Decision and (if approved) Approved RMP Amendment expected in late 2024 or early 2025.

Public Scoping Process

This notice of intent initiates the scoping period and public review of the planning criteria, which guide the development and analysis of the Draft EIS and RMP amendment. The BLM will hold one virtual public scoping meeting (see DATES and ADDRESSES section earlier). The meeting date, time, and information on how to attend will be announced at least 15 days in advance on the Project ePlanning website at https://eplanning.blm.gov/eplanning-ui/project/2024466/510 and via news release. Project information and documents will also be posted on that website. Persons needing assistance (assistive technology, translators, or other assistance) should contact Matt Drahnak, Project Manager (see contact information above).

Segregation

Regulations found at 43 CFR 2804.25(f) allow the BLM to segregate public lands included in an application for a ROW for solar energy development from the operation of the public land laws, including the Mining Law, by publication of a Federal Register notice. The BLM uses this authority to preserve its ability to approve, approve with modifications, or deny a proposed ROW, and to facilitate the orderly administration of the public lands. This segregation is subject to valid existing rights, including existing mining claims located before this segregation notice. Licenses, permits, cooperative agreements, or discretionary land use authorizations of a temporary nature that would not impact lands identified in this notice may be allowed with the approval of a BLM authorized officer during the segregation period. As provided in the regulations, the segregation of lands in this notice will not exceed two years from the date of publication unless extended for up to an additional two years through publication of a new notice in the Federal Register. The segregation period will terminate and the land will automatically reopen to appropriation under the public land laws, including the Mining Law, at the earliest of the following dates: upon issuance of a decision by the authorized officer granting, granting with modifications, or denying the application for a ROW; without further administrative action at the end of the segregation provided for in the Federal Register notice initiating the segregation; or upon publication of a Federal Register notice terminating the segregation.

The lands segregated under this notice are legally described as follows:

Gila and Salt River Meridian, Arizona

T. 2 S., R. 6 W.,

Sec. 1, lots 4, 6, and 7, SW¼NE¼, S½NW¼, SW¼, and W½SE¼;

Sec. 2, lots 1 thru 3, S½NE¼, SE¼NW¼, E½SW¼, and SE¼;

Sec. 3, partly unsurveyed;

Sec. 4, NE¼, NE¼NW¼, N½NW¼NW¼, N½SE¼NW¼, and SE¼, partly unsurveyed;

Sec. 5, S½NW¼SW¼, SW¼SW¼, and S½SE¼SW¼, partly unsurveyed;

Sec. 6, S½NW¼NE¼, SW¼NE¼, S½SE¼NE¼, NW¼, and, S½, partly unsurveyed;

Sec. 7, N½, NE¼SW¼, N½SE¼, and SE¼SE¼, partly unsurveyed;

Sec. 8, NW¼NE¼, S½NE¼, NW¼, and S½, unsurveyed;

Sec. 9, SW¼ and SW¼SE¼, unsurveyed;

Sec. 10, NE¼, N½NW¼, and N½NE¼SE¼, partly unsurveyed;

Sec. 11, E½, E½NW¼, and E½SW¼, partly unsurveyed;

Sec. 12, partly unsurveyed;

Sec. 13, N½, N½NE¼SW¼, and N½SE¼, partly unsurveyed;

Sec. 14, NE¼NE¼, N½NW¼NE¼, and N½SE¼NE¼, unsurveyed;

Sec. 15, W½SW¼, unsurveyed;

Sec. 16, W½NE¼NE¼, W½NE¼, SE¼NE¼, NW¼, and N½NE¼SE¼, unsurveyed;

Sec. 17, N½NE¼, N½SE¼NE¼, NE¼NW¼, and N½NW¼NW¼, unsurveyed.

T. 1 S., R. 7 W.,

Sec. 26, SW¼ and S½SE¼;

Sec. 27, S½NE¼, NW¼, and S½;

Sec. 28, E½SE¼;

Sec. 33, NE¼NE¼, S½NE¼, and NW¼SE¼;

Sec. 34, N½ and SE¼;

Sec. 35, N½, SW¼, N½SE¼, and SW¼SE¼.

T. 2 S., R. 7 W.,

Sec. 1, S½NE¼, E½SW¼, S½NW¼SW¼, and SE¼;

Sec. 2, lot 4;

Sec. 3, lot 1;

Sec. 12, N½NE¼, SE¼NE¼, and NE¼NW¼.

The areas described contain 8,911 acres, according to the official plats of the surveys and protraction diagrams of the said lands, on file with the BLM.

Cooperating Agencies

These Federal agencies have agreed to participate as Cooperating Agencies under a Memorandum of Understanding to Improve Public Land Renewable Energy Project Permit Coordination: the U.S. Fish and Wildlife Service, Bureau of Reclamation, Department of Defense, Department of Energy, and Environmental Protection Agency. Local, State, and Tribal agencies wishing to be considered as a Cooperating Agency on this effort, either on the basis of their jurisdiction by law or special expertise, are invited to express their interest to Matt Drahnak, Project Manager (see contact information above).

Responsible Official

The BLM Arizona State Director is the deciding official for this planning effort and notice of segregation. The Authorized Officer and Decision Maker for the Project is the BLM Lower Sonoran Field Office Manager.

Nature of Decision To Be Made

The BLM will decide whether to approve, approve with modification(s), or deny the implementation-level decision for the issuance of a ROW grant to the applicant for the proposed Project. The nature of the planning decision to be made will be the State Director's selection of land use planning decisions pursuant to this RMP amendment for managing BLM-administered lands under the principles of multiple use and sustained yield in a manner that best addresses the purpose and need.

Interdisciplinary Team

The BLM will use an interdisciplinary approach to develop the plan amendment in order to consider the variety of resource issues and concerns identified. Specialists with expertise in the following disciplines will be involved in this planning effort: lands and realty, wildlife, botany, archaeology, air quality, hydrology, socioeconomics, outdoor recreation, rangeland management, soils, and visual resources.

Additional Information

The BLM will identify, analyze, and consider mitigation to address the reasonably foreseeable impacts to resources from the Project and proposed RMP amendment and all analyzed reasonable alternatives and, in accordance with 40 CFR 1502.14(e), include appropriate mitigation measures not already included in the Proposed Action including the proposed RMP amendment or alternatives. Mitigation may include avoidance, minimization, rectification, reduction or elimination over time, and compensation; mitigation may be considered at multiple scales, including the landscape scale.

The BLM will utilize and coordinate the NEPA and land use planning processes for this planning effort to help support compliance with applicable procedural requirements under the Endangered Species Act (16 U.S.C. 1536) and Section 106 of the National Historic Preservation Act (54 U.S.C. 306108) as provided in 36 CFR 800.2(d)(3), including public involvement requirements of Section 106. Information about historic and cultural resources and threatened and endangered species within the area potentially affected by the Project and proposed RMP amendment will assist the BLM in identifying and evaluating impacts to such resources.

The BLM will consult with Indian Tribal Nations on a government-to-government basis in accordance with Executive Order 13175, BLM MS 1780, and other Departmental policies. Tribal concerns, including impacts on Indian trust assets and potential impacts to cultural resources, will be given due consideration.

Before including your address, phone number, email address, or other personal identifying information in your comment, you should be aware that your entire comment—including your personal identifying information—may be made publicly available at any time. While you can ask us in your comment to withhold your personal identifying information from public review, we cannot guarantee that we will be able to do so.

(Authority: 40 CFR 1501.7, 43 CFR 1610.2, 43 CFR 2091, 43 CFR 2800.)

Raymond Suazo,
State Director.

[FR Doc. 2023-14411 Filed 7-6-23; 8:45 am]

BILLING CODE 4331-12-P